DEPARTMENT OF STATE

[Public Notice: 12928]

Notice of Department of State Sanctions Action

ACTION: Notice.

SUMMARY: The U.S. Department of State is publishing the names of persons who have been added to the Department of the Treasury's List of Specially Designated Nationals and Blocked Persons (SDN List), administered by the Office of Foreign Assets Control (OFAC).

DATES: This action was issued on July 30, 2025. See SUPPLEMENTARY INFORMATION section for applicable dates.

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/iran-sanctions.

Notice of Department of State Actions

On July 30, 2025, the Department of State, in consultation with other departments, as appropriate, determined that the property and interests in property subject to U.S. jurisdiction of the following persons are blocked under the relevant sanctions authority listed below.

Entities

BILLING CODE 4700-09-P

4. ENSA SHIP MANAGEMENT PRIVATE LIMITED (a.k.a. ENSA SHIP MANAGEMENT PVT LTD), HD—441, 4th Floor, Wework Spectrum Tower, Malad, Malad West, Mumbai, Maharashtra 400064, India; Executive Order 13846 information: BLOCKING PROPERTY AND INTERESTS IN PROPERTY. Sec. 5(a)(iv); Organization Established Date 11 Nov 2024; C.I.N. U82990MH2024PTC434780 (India); Identification Number IMO 0108782; Registration Number 434780 (India) [IRAN-EO13846].

Designated pursuant to section 3(a)(ii) of E.O. 13846 for knowingly engaging in a significant transaction for the purchase, acquisition, sale, transport, or marketing of petroleum or petroleum products from Iran.

5. AVANI LINES INC, Trust Company Complex, Ajeltake Road, Ajeltake Island, Majuro 96960, Marshall Islands; Executive Order 13846 information: BLOCKING PROPERTY AND INTERESTS IN PROPERTY. Sec. 5(a)(iv); Organization Established Date 03 May 2024; Identification Number IMO 0113947; Registration Number 125736 (Marshall Islands) [IRAN-EO13846].

Designated pursuant to section 3(a)(iii) of E.O. 13846 for knowingly engaging in a significant transaction for the purchase, acquisition, sale, transport, or marketing of petrochemical products from Iran.

BILLING CODE 4710-09-C

10. KANCHAN POLYMERS, Room No. 204, Sowcarpet, 2nd Floor, No. 69, Wall Tax Road, Chennai, Tamil Nadu 600079, India; Executive Order 13846 information: BLOCKING PROPERTY AND INTERESTS IN PROPERTY. Sec. 5(a)(iv); Organization Established Date 10 Aug 2022; Legal Entity Number 9845004FD751Q7711C43 (India) [IRAN-EO13846].

Designated pursuant to section 3(a)(iii) of E.O. 13846 for knowingly engaging in a significant transaction for the purchase, acquisition, sale, transport, or marketing of petrochemical products from Iran.

11. ALCHEMICAL SOLUTIONS PRIVATE LIMITED (a.k.a. CHEMFORM TRADING PRIVATE LIMITED), Unit No.1406, 14th Floor, C Wing, One Bkc, Plot No. C66, G Block, Bandra Kurla Complex, Bandra East, Mumbai, Maharashtra 400051, India; Executive Order 13846 information: BLOCKING PROPERTY AND INTERESTS IN PROPERTY. Sec. 5(a)(iv); Organization Established Date 23 Mar 2021; C.I.N. U24299MH2021PTC357689 (India) [IRAN-EO13846].

Designated pursuant to section 3(a)(iii) of E.O. 13846 for knowingly engaging in a significant transaction for the purchase, acquisition, sale, transport, or marketing of petrochemical products from Iran.

12. ELM KIMYA ITHALAT IHRACAT SANAYI VE TICARET ANONIM SIRKETI, Efe Tower Sitesi B Blok, No:11B-6 Odunluk Mahallesi Liman Caddesi, Nilufer, Bursa 16110, Turkey; Executive Order 13846 information: BLOCKING PROPERTY AND INTERESTS IN PROPERTY. Sec. 5(a)(iv); Organization Established Date 2018; Registration Number 98100 (Turkey) [IRAN-EO13846].

Designated pursuant to section 3(a)(iii) of E.O. 13846 for knowingly engaging in a significant transaction for the purchase, acquisition, sale, transport, or marketing of petrochemical products from Iran.

13. LAVINYA PLAST KIMYEVI MADDELER VE PETROL URUNLERI NAKLIYE SANAYI IC VE DIS TICARET ANONIM SIRKETI, Nidapark K.Sehir D Blok, No:47Dj Kayabasi Mahallesi Kayasehir Bulvari, Basaksehir, Istanbul, Turkey; Executive Order 13846 information: BLOCKING PROPERTY AND INTERESTS IN PROPERTY. Sec. 5(a)(iv); Organization Established Date 2015; Registration Number 967562 (Turkey) [IRAN-EO13846].

Designated pursuant to section 3(a)(iii) of E.O. 13846 for knowingly engaging in a significant transaction for the purchase, acquisition, sale, transport, or marketing of petrochemical products from Iran.

14. PT. ORIENTAL COMMERCE GARDEN, Sahid Sudirman Center 11st Floor Suite A Jl. Jend. Sudirman No. 86, Kota Administrasi Jakarta Pusat, Jakarta, Java 10220, Indonesia; Executive Order 13846 information: BLOCKING PROPERTY AND INTERESTS IN PROPERTY. Sec. 5(a)(iv); Business Registration Number 1232981 (Indonesia) [IRAN-EO13846].

Designated pursuant to section 3(a)(iii) of E.O. 13846 for knowingly engaging in a significant transaction for the purchase, acquisition, sale, transport, or marketing of petrochemical products from Iran.

16. RAMNIKLAL S GOSALIA AND COMPANY, 608, National House, B J Marg, Jacob Circle, Mahalaxmi, Mumbai, Maharashtra 400011, India; Executive Order 13846 information: BLOCKING PROPERTY AND INTERESTS IN PROPERTY. Sec. 5(a)(iv); Organization Established Date 1998; Tax ID No. 27AADFR2284G1Z6 (India) [IRAN-EO13846].

Designated pursuant to section 3(a)(iii) of E.O. 13846 for knowingly engaging in a significant transaction for the purchase, acquisition, sale, transport, or marketing of petrochemical products from Iran.

17. JUPITER DYE CHEM PRIVATE LIMITED, Office No. 92A/93A, Mittal Court, Nariman Point, Mumbai, Maharashtra 400021, India; Executive Order 13846 information: BLOCKING PROPERTY AND INTERESTS IN PROPERTY. Sec. 5(a)(iv); Organization Established Date 1977; C.I.N. U24230MH1977PTC019716 (India) [IRAN-EO13846].

Designated pursuant to section 3(a)(iii) of E.O. 13846 for knowingly engaging in a significant transaction for the purchase, acquisition, sale, transport, or marketing of petrochemical products from Iran.

18. GLOBAL INDUSTRIAL CHEMICALS LIMITED, 18th Flr, 1803, Lodha Codename No 1, One Lodha Place Senapati Bapat Marg, Upper Worli, Mumbai, Maharashtra 400013, India; Executive Order 13846 information: BLOCKING PROPERTY AND INTERESTS IN PROPERTY. Sec. 5(a)(iv); Organization Established Date 2023; C.I.N. U74999MH2023PLC397808 (India) [IRAN-EO13846].

Designated pursuant to section 3(a)(iii) of E.O. 13846 for knowingly engaging in a significant transaction for the purchase, acquisition, sale, transport, or marketing of petrochemical products from Iran.

20. PERSISTENT PETROCHEM PRIVATE LIMITED, Unit 209, Plot No. C-5, E-Block, B K Complex, Keshava Commercial Premises Cooperative Society, Bandra East, Mumbai, Maharashtra 400051, India; Executive Order 13846 information: BLOCKING PROPERTY AND INTERESTS IN PROPERTY. Sec. 5(a)(iv); Organization Established Date 28 Nov 2022; C.I.N. U24299MH2022PTC394244 (India); Legal Entity Number 9845003D4BF65E039M32 [IRAN-EO13846].

Designated pursuant to section 3(a)(iii) of E.O. 13846 for knowingly engaging in a significant transaction for the purchase, acquisition, sale, transport, or marketing of petrochemical products from Iran.

Vessels

21. SEATURBO (D6A2852) Crude Oil Tanker Comoros flag; Vessel Year of Build 2000; Vessel Registration Identification IMO 9204764; MMSI 620834000 (vessel) [IRAN-EO13846] (Linked To: ETIHAD ENGINEERING AND MARINE SERVICES FZC).

Identified as property in which ETIHAD ENGINEERING AND MARINE SERVICES FZC, a person whose property and interests in property are blocked pursuant to E.O. 13846, has an interest.

22. TRUGEN (D6IJ7) Oil Products Tanker Comoros flag; Vessel Year of Build 2000; Vessel Registration Identification IMO 9200861; MMSI 616999482 (vessel) [IRAN-EO13846] (Linked To: ETIHAD ENGINEERING AND MARINE SERVICES FZC).

Identified as property in which ETIHAD ENGINEERING AND MARINE SERVICES FZC, a person whose property and interests in property are blocked pursuant to E.O. 13846, has an interest.

23. SEABASS (D6A2856) Oil Products Tanker Comoros flag; Vessel Year of Build 2001; Vessel Registration Identification IMO 9251640; MMSI 620847000 (vessel) [IRAN-EO13846] (Linked To: ETIHAD ENGINEERING AND MARINE SERVICES FZC).

Identified as property in which ETIHAD ENGINEERING AND MARINE SERVICES FZC, a person whose property and interests in property are blocked pursuant to E.O. 13846, has an interest.

24. SEAHAKER (D6A3404) Oil Products Tanker Comoros flag; Vessel Year of Build 2003; Vessel Registration Identification IMO 9255488; MMSI 620999405 (vessel) [IRAN-EO13846] (Linked To: ETIHAD ENGINEERING AND MARINE SERVICES FZC).

Identified as property in which ETIHAD ENGINEERING AND MARINE SERVICES FZC, a person whose property and interests in property are blocked pursuant to E.O. 13846, has an interest.

25. ZEAL (TRAM4) Oil Products Tanker Gabon flag; Vessel Year of Build 2017; Vessel Registration Identification IMO 9486805; MMSI 626017000 (vessel) [IRAN-EO13846] (Linked To: ETIHAD ENGINEERING AND MARINE SERVICES FZC).

Identified as property in which ETIHAD ENGINEERING AND MARINE SERVICES FZC, a person whose property and interests in property are blocked pursuant to E.O. 13846, has an interest.

26. MOLLY (D6A2707) Chemical/Oil Tanker Comoros flag; Vessel Year of Build 2013; Vessel Registration Identification IMO 9531375; MMSI 620693000 (vessel) [IRAN-EO13846] (Linked To: ETIHAD ENGINEERING AND MARINE SERVICES FZC).

Identified as property in which ETIHAD ENGINEERING AND MARINE SERVICES FZC, a person whose property and interests in property are blocked pursuant to E.O. 13846, has an interest.

27. SOFIA (D6A2525) Chemical/Oil Tanker Comoros flag; Vessel Year of Build 2013; Vessel Registration Identification IMO 9531387; MMSI 620525000 (vessel) [IRAN-EO13846] (Linked To: ETIHAD ENGINEERING AND MARINE SERVICES FZC).

Identified as property in which ETIHAD ENGINEERING AND MARINE SERVICES FZC, a person whose property and interests in property are blocked pursuant to E.O. 13846, has an interest.

28. COURAGE 7 (TRA050) Asphalt/Bitumen Tanker Gabon flag; Vessel Year of Build 2015; Vessel Registration Identification IMO 9553957; MMSI 626046000 (vessel) [IRAN-EO13846] (Linked To: ETIHAD ENGINEERING AND MARINE SERVICES FZC).

Identified as property in which ETIHAD ENGINEERING AND MARINE SERVICES FZC, a person whose property and interests in property are blocked pursuant to E.O. 13846, has an interest.

29. TIFANI (T8A5110) Crude Oil Tanker Palau flag; Vessel Year of Build 2003; Vessel Registration Identification IMO 9273337; MMSI 511101651 (vessel) [IRAN-EO13846] (Linked To: ENSA SHIP MANAGEMENT PRIVATE LIMITED).

Identified as property in which ENSA SHIP MANAGEMENT PRIVATE LIMITED, a person whose property and interests in property are blocked pursuant to E.O. 13846, has an interest.

30. TONDA SOURCE (HP7673) Chemical/Oil Tanker Panama flag; Vessel Year of Build 1997; Vessel Registration Identification IMO 9127667; MMSI 371997000 (vessel) [IRAN-EO13846] (Linked To: PEACE WORTH SHIPPING CO., LIMITED).

Identified as property in which PEACE WORTH SHIPPING CO., LIMITED, a person whose property and interests in property are blocked pursuant to E.O. 13846, has an interest.

Hugo Y. Yon,
Principal Deputy Assistant Secretary, Bureau of Economic and Business Affairs, U.S. Department of State.

[FR Doc. 2026-01819 Filed 1-29-26; 8:45 am]

BILLING CODE 4710-09-P